DEPARTMENT OF ENERGY

Federal Energy Regulatory Commission

[Project No. 14869-000]

Notice of Preliminary Permit Application Accepted for Filing and Soliciting Comments, Motions To Intervene, and Competing Applications; RAMM Power Group, LLC

On February 28, 2018, RAMM Power Group LLC, filed an application for a preliminary permit, pursuant to section 4(f) of the Federal Power Act (FPA), proposing to study the feasibility of the Sacaton Energy Storage Project (Sacaton Project or project), a closed-loop pumped storage project to be located in Pinal County, Arizona. The sole purpose of a preliminary permit, if issued, is to grant the permit holder priority to file a license application during the permit term. A preliminary permit does not authorize the permit holder to perform any land-disturbing activities or otherwise enter upon lands or waters owned by others without the owners' express permission.

The proposed project would consist of the following new facilities: (1) A 28-foot-high dam with a total crest length of 6,000 feet, creating a 1,300 acre-foot upper reservoir with a maximum surface elevation of 1,456 feet mean sea level (MSL); (2) a 200-foot-long, 12-foot-diameter steel penstock extending from the upper reservoir dam to the powerhouse; (3) an underground powerhouse with two 75-megawatt pump/turbine units; (4) a 2,200-foot-long, 14-foot-diameter low pressure draft tube extending from the powerhouse to the lower reservoir; (5) a 1,500 acre-foot lower reservoir with a maximum reservoir surface elevation of 455 feet MSL to be located within an existing pit mine (no dam needed); (6) a new 200-Megavolt-ampere substation located adjacent to the upper reservoir; (7) a 2,500-foot-long, 137-kilovolt (kV) transmission line extending from the project's substation to existing 137-kV transmission lines owned by Arizona Public Service; and (8) appurtenant facilities. The estimated average annual generation of the Sacaton Project would be 400,000 megawatt-hours

Applicant Contact: Dr. Michael A. Werner, RAMM Power Group, 7425 East Columbia Drive, Spokane, Washington 99212; phone: (509) 280-7486.

FERC Contact: Khatoon Melick, (202) 502-8433, khatoon.melick@ferc.gov.

Deadline for filing comments, motions to intervene, competing applications (without notices of intent), or notices of intent to file competing applications: 60 Days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street, NE, Washington, DC 20426. The first page of any filing should include docket number P-14869-000.

More information about this project, including a copy of the application, can be viewed or printed on the “eLibrary” link of Commission's website at http://www.ferc.gov/docs-filing/elibrary.asp. Enter the docket number (P-14869) in the docket number field to access the document. For assistance, contact FERC Online Support.

Dated: March 26, 2018.
Kimberly D. Bose,
Secretary.

[FR Doc. 2018-06577 Filed 3-30-18; 8:45 am]

BILLING CODE 6717-01-P